INTERNATIONAL TRADE COMMISSION

[Investigation Nos. 701-TA-467 and 731-TA-1164-1165 (Final)]

Narrow Woven Ribbons With Woven Selvedge From China and Taiwan

Determinations

On the basis of the record ¹ developed in the subject investigations, the United States International Trade Commission (Commission) determines,² pursuant to sections 705(b) and 735(B) of the Tariff Act of 1930 (19 U.S.C. 1671d(b)) and (19 U.S.C. 1673d(b)) (the Act), that an industry in the United States is threatened with material injury by reason of imports of narrow woven ribbons with woven selvedge from China, primarily provided for in subheading 5806.32 of the Harmonized Tariff Schedule of the United States, that the U.S. Department of Commerce (“Commerce”) has determined are subsidized and sold in the United States at less than fair value (“LTFV”). The Commission further determines,² pursuant to section 735(B) of the Act (19 U.S.C. 1673d(b)), that an industry in the United States is threatened with material injury by reason of imports of narrow woven ribbons with woven selvedge from Taiwan, primarily provided for in subheading 5806.32 of the Harmonized Tariff Schedule of the United States, that Commerce has determined are sold in the United States at LTFV. In addition, the Commission determines that it would not have found material injury but for the suspension of liquidation.

¹ The record is defined in sec. 207.2(f) of the Commission's Rules of Practice and Procedure (19 CFR 207.2(f)).

² Commissioners Charlotte R. Lane, Shara L. Aranoff, and Irving A. Williamson made affirmative determinations. Chairman Deanna Tanner Okun and Commissioner Daniel R. Pearson made negative determinations. Commissioner Dean A. Pinkert made an affirmative determination with respect to China and a negative determination with respect to Taiwan.

Background

The Commission instituted these investigations effective July 9, 2009, following receipt of a petition filed with the Commission and Commerce by Berwick Offray LLC and its wholly-owned subsidiary Lion Ribbon Company, Inc., Berwick, PA. The final phase of the investigations was scheduled by the Commission following notification of preliminary determinations by Commerce that imports of narrow woven ribbons with woven selvedge from China were subsidized within the meaning of section 703(b) of the Act (19 U.S.C. 1671b(b)) and that imports of narrow woven ribbons with woven selvedge from China and Taiwan were dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on March 12, 2010 (75 FR 11908). The hearing was held in Washington, DC, on July 15, 2010, and all persons who requested the opportunity were permitted to appear in person or by counsel.

The Commission transmitted its determinations in these investigations to the Secretary of Commerce on August 25, 2010. The views of the Commission are contained in USITC Publication 4180 (September 2010), entitled Narrow Woven Ribbons With Woven Selvedge From China and Taiwan: Investigation Nos. 701-TA-467 and 731-TA-1164-1165 (Final).

By order of the Commission.
Issued: August 26, 2010.
Marilyn R. Abbott,
Secretary to the Commission.

[FR Doc. 2010-21760 Filed 8-31-10; 8:45 am]

BILLING CODE 7020-02-P